DEPARTMENT OF STATE

[Public Notice 8138]

Application for a Presidential Permit To Operate and Maintain Pipeline Facilities on the Border of the United States and Canada; Enbridge Energy, LP

AGENCY: Department of State.

ACTION: Notice of Receipt of Enbridge Energy, Limited Partnership Application for a Presidential Permit to Operate and Maintain Pipeline Facilities on the Border of the United States and Canada.

SUMMARY: Notice is hereby given that the Department of State (DOS) has received from Enbridge Energy, Limited Partnership (“Enbridge”), a Presidential Permit application to amend the August 3, 2009 Presidential Permit issued to Enbridge by the DOS authorizing the construction, operation, and maintenance of the Line 67 (“Line 67”) Pipeline across the U.S.-Canada border. Enbridge requests an amendment to its permit in order to operate the Line 67 up to its full design capacity of 880,000 barrels per day (bpd) of crude oil with an average annual capacity of 800,000 bpd of heavy crude.

FOR FURTHER INFORMATION CONTACT: Office of Energy Diplomacy, Energy Resources Bureau (ENR/EDP/EWA) Department of State, 2201 C St. NW Ste 4843, Washington, DC 20520 Attn: Michael Brennan, Tel: 202-647-7553.

SUPPLEMENTARY INFORMATION: Enbridge is a limited partnership duly organized under the laws of the State of Delaware. Enbridge owns and operates the “Lakehead System”, the U.S. portion of an operationally integrated pipeline system which connects producers and shippers of crude oil and natural gas liquids in western Canada with markets in the United States and eastern Canada. Enbridge is a wholly owned subsidiary of Enbridge Energy Partners, L.P. (“Enbridge Partners”), which is a Delaware master limited partnership headquartered at 1100 Louisiana, Suite 3300, Houston, Texas 77002 (ph. 713-821-2000; www.enbridgepartners.com). Enbridge Partners provides pipeline transportation of petroleum and natural gas in the mid-continent and Gulf Coast regions of the United States, in addition to gathering, processing, and other related operations.

The 2009 Presidential Permit that authorized the construction, operation and maintenance of Line 67 from the U.S.-Canada border near Neche, North Dakota to the first mainline shut-off valve in the United States, was issued following the DOS's issuance of a Final Environmental Impact Study (“FEIS”) on June 5, 2009. Line 67 is a 36-inch pipeline that transports crude oil from Enbridge's facilities in Hardisty, Alberta to an Enbridge terminal in Superior, Wisconsin (“Superior Terminal”). In the United States, Line 67 extends 326.9 miles from the U.S.-Canada border through North Dakota, Minnesota and Wisconsin to the Superior Terminal. From there, the crude oil is transported primarily to Midwestern markets and mid-central and Gulf Coast markets, as well as points in the eastern United States and Canada. The U.S. portion of Line 67 facilities also consist of a total of 32 mainline valves with current pumping units located in Minnesota at stations in Clearbrook, Viking, and Deer River.

While the Line 67 expansion would not require any modifications to the facilities at the border, Enbridge intends to increase the capacity of Line 67 in at least two stages. The capacity will initially be increased up to 570,000 bpd by adding horsepower to existing pumping units inside of the current footprint of Enbridge's pump stations in Minnesota. Enbridge further seeks authority to increase the capacity from 570,000 bpd to an average annual capacity of 800,000 bpd at a point in the future by constructing additional pumping units at Enbridge's pump stations in Minnesota.

Under E.O. 13337 the Secretary of State is designated and empowered to receive all applications for Presidential Permits for the construction, connection, operation, or maintenance at the borders of the United States, of facilities for the exportation or importation of liquid petroleum, petroleum products, or other non-gaseous fuels to or from a foreign country. The Department of State is circulating this application to concerned federal agencies for comment. The Department of State has the responsibility to determine whether issuance of a new Presidential Permit to Enbridge in order to expand Line 67 would be in the U.S. national interest.

The Department of State intends to issue additional Federal Register notices inviting public comment on whether issuance of the requested amended Presidential Permit would be in the national interest, and addressing plans for reviewing the application consistent with the National Environmental Policy Act, the National Historic Preservation Act, the Endangered Species Act, and other relevant law, by preparing a supplemental environmental impact statement to the final EIS for the Alberta Clipper permit application, issued on June 5, 2009. A separate Notice of Intent to Prepare a Supplemental Environmental Impact Statement will follow this notice in due course. The application is available at http://www.state.gov/e/enr.

Dated: December 21, 2012.
Douglas R. Kramer,
Acting Director, Office of Europe, Western Hemisphere and Africa, Bureau of Energy Resources, U.S. Department of State.

[FR Doc. 2012-31557 Filed 12-31-12; 8:45 am]

BILLING CODE 4710-09-P